DEPARTMENT OF TRANSPORTATION

Federal Aviation Administration

14 CFR Part 71

[Airspace Docket No. 05-AWP-12]

Establishment of a Class E Enroute Domestic Airspace Area, San Louis Obispo, CA

AGENCY: Federal Aviation Administration (FAA), DOT.

ACTION: Direct final rule; withdrawal.

SUMMARY: This action withdraws the direct final rule published in the Federal Register on November 14, 2005, (70 FR 69077). In that action, the FAA proposed to establish a Class E enroute domestic airspace west of San Luis Obispo, CA, to replace existing Class G uncontrolled airspace. The FAA has determined that the boundaries of this airspace will be revised and another direct final rule resubmitted for publication.

DATES: The direct final rule published November 14, 2005 (70 FR 69077) is withdrawn as of January 13, 2006.

FOR FURTHER INFORMATION CONTACT: Francie Hope, Western Terminal Operations Airspace Specialist, AWP-520.3, Federal Aviation Administration, 15000 Aviation Boulevard, Lawndale, California 90261, telephone (310) 725-6502.

SUPPLEMENTARY INFORMATION: On November 14, 2005, a direct final rule was published in the Federal Register to establish a Class E enroute domestic airspace area west of San Luis Obispo to contain aircraft while in Instrument Flight Rules (IFR) conditions and under control of Santa Barbara Terminal Radar Approach Control (TRACON). On November 2, 2005, airspace was transferred from Los Angeles Air Route Traffic Control Center (ARTCC) to Santa Barbara TRACON. In order to provide positive control of aircraft in this area, the airspace was to be designated as controlled airspace. Further review determined that a change in boundaries is required to provide the necessary air traffic control procedures for this airspace, therefore the FAA will withdraw the proposed action.

List of Subjects in 14 CFR Part 71

Airspace, Incorporation by reference, Navigation (air).

The Withdrawal

In consideration of the foregoing, the direct final rule for Airspace Docket No. 05-AWP-12, as published in the Federal Register on November 14, 2005 (70 FR 69077), is hereby withdrawn.

Authority: 49 U.S.C. 106(g), 40103, 40113, 40120; E.O. 10854; 24 FR 9565, 3 CFR, 1959-1963 Comp., p. 389.

Issued in Los Angeles, California, on December 20, 2005.
Anthony DiBernardo,
Acting Area Director, Western Terminal Operations.

[FR Doc. 06-202 Filed 1-12-06; 8:45 am]

BILLING CODE 4910-13-M